COMMISSION ON CIVIL RIGHTS

Notice of Public Meeting of the New Mexico Advisory Committee; Correction

AGENCY: Commission on Civil Rights.

ACTION: Notice; correction.

SUMMARY: The Commission on Civil Rights published a notice in the Federal Register on Tuesday, August 23, 2022, concerning a meeting of the New Mexico Advisory Committee. The meeting link has since been updated.

FOR FURTHER INFORMATION CONTACT: Brooke Peery, bpeery@usccr.gov, (312) 353-8311.

SUPPLEMENTARY INFORMATION:

Correction

In the Federal Register on Tuesday, August 23, 2022, in FR Document Number 2022-18090, on page 51650, second column, correct the meeting link to read: https://www.zoomgov.com/meeting/register/vJIscO-grzkoEiGG6UBK47iBlZk2oWeQX3w.

Dated: September 26, 2022.
David Mussatt,
Supervisory Chief, Regional Programs Unit.

[FR Doc. 2022-21183 Filed 9-28-22; 8:45 am]

BILLING CODE P